DEPARTMENT OF EDUCATION

National Mathematics Advisory Panel

AGENCY: National Mathematics Advisory Panel, U.S. Department of Education.

ACTION: Notice of open meeting and public hearing, amended.

SUMMARY: On October 17, 2006 the Secretary published in the Federal Register (71 FR 61032) a notice of open meeting and public hearing for the National Mathematics Advisory Panel. This notice amends the October 17 notice by adding an additional session on Research and Instructional Practice and republishes the entire notice to read as follows:

This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Sunday, November 5, 2006 and Monday, November 6, 2006. Times: Sunday, November 5, 2006, 4-5 p.m. Monday, November 6, 2006, 8:15-11:45 a.m.; 12:45-2:45 p.m.; and, 3-5:15 p.m.

ADDRESSES: All meetings and the open session for public comment will be held on the campus of Stanford University at the Schwab Residential Center, 680 Serra Street, Stanford, CA 94305-6090.

FOR FURTHER INFORMATION CONTACT: Tyrrell Flawn, Executive Director, National Mathematics Advisory Panel, 400 Maryland Avenue, SW., Washington, DC 20202; telephone: (202) 260-8354.

SUPPLEMENTARY INFORMATION: The Panel was established by Executive Order 13398. The purpose of this Panel is to foster greater knowledge of and improved performance in mathematics among American students, in order to keep America competitive, support American talent and creativity, encourage innovation throughout the American economy, and help State, local , territorial, and tribal governments give the nation's children and youth the education they need to succeed.

The Open Session on November 5th will include testimony from the College Board and ACT on American student readiness for college-level mathematics. The Open Sessions on November 6th will include testimony on the National Assessment of Educational Progress (NAEP); Trends in International Mathematics and Science Study (TIMSS); the use of Instructional Technology and Calculators; Research and Instructional Practice; and Task Group reports. Individuals interested in attending the meeting are advised to register in advance to ensure space availability. Please contact Jennifer Graban at (202) 260-1491 or by e-mail at Jennifer.Graban@ed.gov by Wednesday, November 1, 2006.

The November 6th meeting will also contain an Open Public Session from 10:45 to 11:45 a.m. At that time, the public is invited to comment and present evidence in connection to elements outlined in the Executive Order. Presenters are encouraged to address one or more of the Panel's present four focus areas: Conceptual knowledge and skills; learning processes; instructional practices; and teachers. (Please refer to the Web site at http://www.ed.gov/about/bdscomm/list/mathpanel/index.html for more information on the elements of the Executive Order.)

If you are interested in giving testimony during the public session on November 6th, please contact Jennifer Graban at 202-260-1491 or Jennifer.Graban@ed.gov by November 1, 2006, to reserve time on the agenda. Please include your name, the organization you represent, if appropriate, a brief description of the issue you would like to present and the focus area(s) to which it correlates. Presenters will be allowed five minutes to make their comments. Presenters are requested to submit three written copies and an electronic file (CD or diskette) of their comments at the meeting, which should be labeled with their name and contact information. Individuals interested in solely attending the meeting are advised to register in advance to ensure space availability.

Given the expected number of individuals interested in providing comments at the meeting, reservations for presenting comments should be made as soon as possible. Reservations will be processed on a first-come, first-served basis. Persons who are unable to obtain reservations to speak during the meeting are encouraged to submit written comments, which will be considered equally as those presented on-site. Written comments will be accepted at the meeting site or via e-mail at Jennifer.Graban@ed.gov. If you will be e-mailing written comments, please do so by October 27, 2006.

The Panel will submit to the President, through the Secretary, a preliminary report not later than January 31, 2007, and a final report not later than February 28, 2008. Both reports shall, at a minimum, contain recommendations, based on the best available scientific evidence.

The meeting site is accessible to individuals with disabilities. Individuals who will need accommodations in order to attend the meeting such as interpreting services, assistive listening devices, or materials in alternative format, should notify Jennifer Graban at 202-260-1491 or Jennifer.Graban@ed.gov no later than November 1, 2006. We will attempt to meet requests for accommodations after this date, but cannot guarantee their availability.

Records are kept of all Panel proceedings and are available for public inspection at the staff office for the Panel, from the hours of 9 a.m. to 5 p.m.

Dated: October 18, 2006.
Margaret Spellings,
Secretary, U.S. Department of Education.

[FR Doc. 06-8834 Filed 10-23-06; 8:45 am]

BILLING CODE 4000-01-M